SMALL BUSINESS ADMINISTRATION

[License No.: 09/79-0416]

Notice of Surrender of License

Notice is hereby given that Sundance Venture Partners II, L.P., located at 5030 E. Sunrise Drive, Suite 200, Phoenix, Arizona 85044, has surrendered its license to operate as a small business investment company under the Small Business Investment Act of 1958, as amended (the Act). Sundance Venture Partners II, L.P., was licensed by the Small Business Administration on 05/04/98. Under the authority vested by the Act and pursuant to the Regulations promulgated thereunder, the surrender was acted on this date, and accordingly, all rights, privileges and franchises derived therefrom have been terminated.

(Catalog of Federal Domestic Assistance Program No. 59.11, Small Business Investment Companies)
Dated: November 29, 2000.
Donald A. Christensen,
Associate Administrator for Investment.

[FR Doc. 00-31063 Filed 12-5-00; 8:45 am]

BILLING CODE 8025-01-P